DEPARTMENT OF HEALTH AND HUMAN SERVICES

National Institutes of Health

Proposed Collection; Comment Request; Web Based Training for Pain Management Providers

SUMMARY: Under the provisions of Section 3507(a)(1)(D) of the Paperwork Reduction Act of 1995, the National Institute on Drug Abuse, the National Institutes of Health has submitted to the Office of Management and Budget (OMB) a request to review and approve the information collection listed below. This proposed information collection was previously published in the Federal Register in Vol. 75, No. 25 on Monday, February 8 and allowed 60 days for public comment. No public comments were received on the planned study or any of the specific topics outlined in the 60 day notice. Three comments were received requesting information on the educational program rather than the study. We responded to requests for additional information from interested parties. The purpose of this notice is to allow an additional 30 days for public comment.

5 CFR 1320.5 (General requirements) Reporting and Recordkeeping Requirements: Final Rule requires that the agency inform the potential persons who are to respond to the collection of information that such persons are not required to respond to the collection of information unless it displays a currently valid OMB control number.

Proposed Collection

Title: Web Based Training for Pain Management Providers.

Type of Information Collection Request: New.

Need and Use of Information Collection: This research will evaluate the effectiveness of the Web Based Training for Pain Management Providers, via the Web site PainAndAddictionTreatment.com, to positively impact the knowledge, attitudes, intended behaviors and clinical skills of health care providers in the U.S. who treat pain. The Web Based Training for Pain Management Providers is a new program developed with funding from the National Institute on Drug Abuse. The primary goal is to assess the impact of the training program on knowledge, attitude, intended behavior, and clinical skills. A secondary goal is to assess learner satisfaction with the program. If the program is a success, there will be a new, proven resource available to health care providers to improve their ability to treat pain and addiction co-occurring in the provider's patients. In order to evaluate the effectives of the program, information will be collected from health care providers before exposure to the Web based materials (pre-test), after exposure to the web based materials (post-test), and 4-6 weeks after the program has been completed (follow-up).

Frequency of Response: On occasion.

Affected Public: Volunteer health care providers who treat patients with pain.

Type of Respondents: Physicians, nurse practitioners, and physician assistants.

The annual reporting burden is as follows:

Estimated Number of Respondents: 80.

Estimated Number of Responses per Respondent: 3.

Average Burden Hours per Response: 0.75.

Estimated Total Annual Burden Hours Requested: 180.

The annualized cost to respondents is estimated at: $11,925. There are no Capital Costs, Operating Costs, and/or Maintenance Costs to report.

Type of respondents | Estimated number of respondents | Estimated number of responses per respondent | Average burden hours per response | Estimated annual burden hours requested
Physicians | 60 | 3 | 0.75 | 135
Other primary care providers (e.g., nurse practitioners, physician assistants) | 20 | 3 | 0.75 | 45

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: Desk Officer for NIH. To request more information on the proposed project or to obtain a copy of the data collection plans and instruments, contact: Scudder Quandra, Project Officer, NIH/NIDA/CCTN, Room 3105, MSC 9557, 6001 Executive Boulevard, Bethesda, MD 20892-9557 or e-mail your request, including your address to scudderq@nida.nih.gov.

Comments Due Date: Comments regarding this information collection are best assured of having their full effect if received within 30 days of the date of this publication.

Dated: April 8, 2010.
Mary Affeldt,
Executive Officer (OM Director), NIDA, National Institutes of Health.

[FR Doc. 2010-8800 Filed 4-15-10; 8:45 am]

BILLING CODE 4140-01-P